DEPARTMENT OF AGRICULTURE

Grain Inspection, Packers and Stockyards Administration

Deposting of Stockyards

AGENCY: Grain Inspection, Packers and Stockyards Administration, USDA.

ACTION: Notice.

SUMMARY: We are deposting four stockyards. These facilities can no longer be used as stockyards and, therefore, are no longer required to be posted.

EFFECTIVE DATE: January 13, 2004.

SUPPLEMENTARY INFORMATION: The Grain Inspection, Packers and Stockyards Administration (GIPSA) administers and enforces the Packers and Stockyards Act of 1921, as amended and supplemented (7 U.S.C. 181—229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302(b) of the P&S Act requires the Secretary to determine which stockyards meet this definition, and to notify the owner of the stockyard and the public of that determination by posting a notice in each designated stockyard. After giving notice to the stockyard owner and to the public, the stockyard is subject to the provisions of Title III of the P&S Act (7 U.S.C. 201-203 and 205-217a) until the Secretary deposts the stockyard by public notice.

We depost a stockyard when the facility can no longer be used as a stockyard. Some of the reasons a facility can no longer be used as a stockyard include: the facility has been moved and the posted facility is abandoned, the facility has been torn down or otherwise destroyed, such as by fire, the facility is dilapidated beyond repair, or the facility has been converted and its function changed.

This document notifies the public that the following four stockyards no longer meet the definition of stockyard and that we are deposting the facilities.

Facility No. | Stockyard name and location | Date posted
CO-151 | Western Slope Livestock Auction, Montrose, Colorado | January 26, 1984.
ID-125 | Weiser Livestock Commision, Weiser, Idaho | March 29, 1950.
MO-228 | Nixa Livestock Auction Co., Nixa, Missouri | October 24, 1972.
TX-165 | Ennis Livestock Market Co., Ennis, Texas | January 09, 1957.

Effective Date

This notice is effective upon publication in the Federal Register because it relieves a restriction and, therefore, may be made effective in less than 30 days after publication in the Federal Register without prior notice or other public procedure.

Authority: 7 U.S.C. 202.

Donna Reifschneider,
Administrator, Grain Inspection, Packers and Stockyards Administration.

[FR Doc. 04-570 Filed 1-12-04; 8:45 am]

BILLING CODE 3410-EN-P